DEPARTMENT OF HOMELAND SECURITY

Federal Emergency Management Agency

[Docket ID FEMA-2021-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of October 7, 2021 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
DeSoto County, Florida and Incorporated Areas
Docket No.: FEMA-B-2032
Unincorporated Areas of DeSoto County | DeSoto County Planning Department, 201 East Oak Street, Arcadia, FL 34266.
Hillsborough County, Florida and Incorporated Areas
Docket No.: FEMA-B-1950
City of Tampa | Construction Services Center, 1400 North Boulevard, Tampa, FL 33607.
Unincorporated Areas of Hillsborough County | Hillsborough County Public Works Department, 601 East Kennedy Boulevard, 22nd Floor, Tampa, FL 33602.
Turner County, South Dakota and Incorporated Areas
Docket No.: FEMA-B-2004
City of Centerville | City Hall, 741 Main Street, Centerville, SD 57014.
City of Hurley | City Hall, 701 Burns Place , Hurley, SD 57036.
City of Marion | City Hall, 398 North Broadway Avenue, Marion, SD 57043.
City of Parker | City Shops, 279 West 5th Street, Parker, SD 57053.
Town of Davis | Map Repository, 261 East 4th Street, Davis, SD 57021.
Town of Monroe | Map Repository, 300 3rd Street, Monroe, SD 57047.
Unincorporated Areas of Turner County | Turner County Planning and Zoning Office, 400 South Main Street, Parker, SD 57053.
Amelia County, Virginia (All Jurisdictions)
Docket No.: FEMA-B-2013
Unincorporated Areas of Amelia County | Amelia County Courthouse, 16360 Dunn Street, Amelia, VA 23002.
Summers County, West Virginia and Incorporated Areas
Docket No.: FEMA-B-2032
City of Hinton | City Hall, 322 Summers Street, Hinton, WV 25951.
Unincorporated Areas of Summers County | Summers County Courthouse, 120 Ballengee Street, Suite 203, Hinton, WV 25951.

[FR Doc. 2021-13867 Filed 6-28-21; 8:45 am]

BILLING CODE 9110-12-P